DEPARTMENT OF AGRICULTURE

Food Safety and Inspection Service

[Docket No. FSIS-2011-0028]

Food Source Attribution; Public Meeting

AGENCY: Food Safety and Inspection Service, USDA.

ACTION: Notice of public meeting.

SUMMARY: The Food Safety and Inspection Service (FSIS), in collaboration with the Food and Drug Administration (FDA), and the Centers for Disease Control and Prevention (CDC), is hosting a public meeting to discuss Federal efforts to advance tri-agency understanding of food source attribution and develop harmonized food source attribution estimates useful to informing targeted food safety strategies. The public meeting will also introduce the Interagency Food Safety Analytics Collaboration (IFSAC), which was formed to collaborate on analytic projects. The meeting will also serve as a platform to introduce IFSAC's draft Strategic Plan. Foodborne illness attribution was selected as the initial focus in light of the CDC foodborne illness burden estimates released in 2011 and in response to stakeholder input to develop a unified approach to attribution. FSIS, FDA, and CDC are also interested in input from stakeholders regarding existing data and methods for food source attribution in the United States and the opportunities and challenges in implementing the IFSAC Strategic Plan.

DATES: The public meeting will be held on Tuesday, January 31, 2012, 8:30 a.m. to 4 p.m.

ADDRESSES: The meeting will be held at the South Building Cafeteria, U.S. Department of Agriculture (USDA), 14th & Independence Avenue SW., Washington, DC 20250. Non-USDA employees must enter through wing 2, located at 12th and C Street SW. Attendees must provide a photo ID to enter the building.

FOR FURTHER INFORMATION CONTACT: For questions about registration, to register orally, or to submit a notice of participation by mail, fax, or by email: Courtney Treece, Planning Professionals, Ltd., 1210 W. McDermott, Suite 111, Allen, TX 75013, telephone: (704) 258-4983, fax: (469) 854-6992, email: ctreece@planningprofessionals.com.

For questions about the meeting, to request an opportunity to make public comments, or to submit the full text, comprehensive outline or summary of an oral presentation, contact: Juanita Yates, FDA, Center for Food Safety and Applied Nutrition, telephone: (240) 402-1731, email: juanita.yates@fda.hhs.gov. To request special accommodations due to a disability, contact Juanita Yates by January 25, 2012.

For logistical information about the meeting, contact Joan Lindenberger, Office of Public Affairs and Consumer Education, FSIS, telephone: (202) 720-6755, or by email at joan.lindenberger@fsis.usda.gov.

For technical information about the meeting, contact Dr. David Goldman, Assistant Administrator, Office of Public Health Science, USDA, FSIS, telephone: (202) 690-6462, fax: (202) 690-6337, email: David.Goldman@fsis.usda.gov.

SUPPLEMENTARY INFORMATION:

I. Background

Estimating the number of illnesses, hospitalizations, and deaths caused by major foodborne pathogens is an important step in the prioritization of disease control programs. Estimating the proportions of these illnesses that are caused by specific food sources (food source attribution) is a necessary additional step in measuring progress toward public health goals resulting from food safety policies and interventions. The number of illnesses and their food source attribution are used together to inform strategic planning and policy decisions to allocate Federal resources towards pressing public health concerns.

Currently, work by Scallan et al (2011) ¹ provides estimates of the annual number of foodborne illnesses caused by 31 major pathogens and was informed by a variety of data sources. Estimating the most common sources of these foodborne illnesses (food source attribution) also relies on multiple data sources and analytic methods. Data from foodborne outbreak investigations have always been an important source of attribution information because many of these investigations determine the specific food associated with illnesses. However, most foodborne illness is not associated with detected outbreaks, and some causes of foodborne illness, such as Toxoplasma and Campylobacter, are never or rarely associated with foodborne outbreaks. Consequently, additional data sources and analytic methods are needed to enhance food source attribution estimates and inform their interpretation. These may include studies of laboratory-confirmed illnesses, expert elicitations, and risk assessments.

¹ Scallan E, Hoekstra RM, Angulo FJ, Tauxe RV, Widdowson M-A, Roy SL, et al. Foodborne illness acquired in the United States—major pathogens. Emerg Infect Dis [serial on the Internet]. 2011 Jan [cited 11/15/2011]. http://www.cdc.gov/EID/content/17/1/7.htm.

In response to President Obama's Food Safety Working Group Key Findings on “Improved Organization of Federal Food Safety Responsibilities,” FSIS, FDA, and CDC formed IFSAC in February 2011 to meet the crucial need for strengthening Federal collaboration by addressing cross-cutting priorities for food safety data collection, analysis, and use. Additionally, as a part of tri-Agency public meetings on the development of feasible and effective food safety performance metrics held in March, July, and October 2010, stakeholders identified the need for the three Federal food safety agencies to work together and harmonize food source attribution efforts. This includes working jointly to advance the science and methods available for estimating attribution. As a result, IFSAC chose food source attribution as its first food safety analytical challenge.

The initial objective of IFSAC is the estimation of source attribution of foodborne infections to specific foods and settings. This includes the understanding that continuous improvements to data and the analytic methods available for generating attribution estimates will provide more accurate assessments of the attribution of foodborne illnesses across the broad range of commodities and points in the food safety chain. In Summer 2011, the three agencies worked together to develop a cohesive description of specific needs related to food source attribution, which includes both short-term needs such as developing shared attribution estimates for decision-making, as well as long-term needs that focus on plans for reducing the uncertainty, improving data and analytic methods, and obtaining comprehensive estimates of attribution that are informed by multiple data sources and analytic approaches. These needs, and the strategy for meeting these needs, were captured in the draft IFSAC Strategic Plan for Attribution.

In October 2011, this plan was reviewed by three food safety experts independent of the U.S. government, who did not provide any consensus recommendations or advice, and in November 2011, it was presented to members of the Food Safety Modernization Act (FSMA) surveillance workgroup. IFSAC also sought advice from the FDA Risk Communication Advisory Committee (RCAC) on August 15-16, 2011, on how to best communicate to stakeholders on the evolving methodology and complex data sources involved in food source attribution. Meeting materials, transcripts and meeting minutes from the RCAC meeting on August 15-16, 2011, are available at http://www.fda.gov/AdvisoryCommittees/CommitteesMeetingMaterials/RiskCommunicationAdvisoryCommittee/ucm249108.htm. Based on the feedback received on the Strategic Plan and communication challenges, IFSAC is developing new strategies and communication materials to meet the needs of the three agencies and food safety stakeholders.

The agencies will present the IFSAC Strategic Plan for Attribution and will seek input on the opportunities and challenges to improve food source attribution efforts in the United States. An agenda for the meeting and the draft IFSAC Strategic Plan will be finalized on or before the public meeting date and will be posted at http://www.fsis.usda.gov/News_&_Events/meetings_&_events.

II. Registration

Due to limited space, FSIS encourages all persons who wish to attend the meeting to register online at http://www.fsis.usda.gov/News_&_Events/meetings_&_events by January 25, 2012.

III. Comments

Stakeholders will have an opportunity to provide oral comments. Interested persons and organizations who desire an opportunity to make an oral presentation during the time allotted for public comments at the meeting are encouraged to register in advance by January 9, 2012. Anyone registering to provide a public comment must also provide a brief description of the comment and any material to be used during the presentation by January 25, 2012.

In addition to this meeting, interested persons may submit comments on or before March 1, 2012, using either of the following methods:

Federal eRulemaking Portal: Go to http://www.regulations.gov and follow the online instructions at that site for submitting comments.

Mail, including CD-ROMS: Send to Docket Clerk, USDA, FSIS Docket Room, 1400 Independence Avenue SW., Patriots Plaza 3, Mailstop 3782, Room 8-163A, Washington, DC 20250-3700.

Hand- or courier-delivered items: Deliver to the Docket Clerk, USDA, FSIS Docket Room at Patriots Plaza 3, 355 E. Street SW., Room 8-164, Washington, DC 20250 between 8:30 a.m. and 4:30 p.m., Monday through Friday.

Instructions: All items submitted by mail or electronic mail must include the Agency name and docket number FSIS-2011-0028. Comments received in response to this docket will be made available for public inspection and posted without change, including any personal information, to http://www.regulations.gov.

Docket: For access to background documents or comments received, go to the FSIS Docket Room at Patriots Plaza 3, 355 E. Street SW., Room 8-164, Washington, DC 20250 between 8:30 a.m. and 4:30 p.m., Monday through Friday.

IV. Transcripts

As soon as the meeting transcripts are available, they will be accessible on the FSIS Web site at http://www.fsis.usda.gov/news/meetings_&_events. The transcripts may also be viewed at the FSIS Docket Room at the address listed above.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status (Not all prohibited bases apply to all programs).

Persons with disabilities who require alternative means for communication of program information (Braille, large print, and audiotape) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC on December 19, 2011.
Alfred V. Almanza,
Administrator.

[FR Doc. 2011-33018 Filed 12-23-11; 8:45 am]

BILLING CODE 3410-DM-P